DEPARTMENT OF THE INTERIOR

Fish and Wildlife Service

50 CFR Part 17

RIN 1018-AI69

Endangered and Threatened Wildlife and Plants; Proposed Designation of Critical Habitat for Yermo xanthocephalus (Desert Yellowhead)

AGENCY: Fish and Wildlife Service, Interior.

ACTION: Proposed rule; reopening of public comment period and notice of availability of draft economic analysis and draft environmental assessment.

SUMMARY: We, the U.S. Fish and Wildlife Service (Service), announce the availability of the draft economic analysis and draft environmental assessment for the proposed designation of critical habitat for Yermo xanthocephalus (desert yellowhead) under the Endangered Species Act of 1973, as amended. We also are reopening the public comment period for the proposal to designate critical habitat for this species to allow all interested parties to comment on the proposed rule and the associated draft economic analysis and draft environmental assessment. Over a 10-year time period, the total section 7-related direct costs associated with the Y. xanthocephalus listing and critical habitat are estimated at $500,000 to $600,000. Comments previously submitted need not be resubmitted as they have been incorporated into the public record as part of this extended comment period and will be fully considered in preparation of the final rule.

DATES: We will accept and consider all comments received on or before February 26, 2004. Any comments that we receive after the closing date may not be considered in the final decision on this proposal.

ADDRESSES: You may submit written comments and information to the Field Supervisor, U.S. Fish and Wildlife Service, 4000 Airport Parkway, Cheyenne, WY 82001, or by facsimile to 307-772-2358. You may hand deliver written comments to our Wyoming Field Office at the address given above. You may send comments by electronic mail (e-mail) to fw6_desertyellowhead@fws.gov. See the “Public Comments Solicited” section below for file format and other information on electronic filing.

You may obtain copies of the draft economic analysis and draft environmental assessment, review comments and materials received, and review supporting documentation used in preparation of the proposed rule, by appointment, during normal business hours, at the U.S. Fish and Wildlife Service's Wyoming Field Office. The draft economic analysis and draft environmental assessment, as well as the proposed rule for the critical habitat designation, also are available on the Internet at http://mountain-prairie.fws.gov/endspp/plants.

FOR FURTHER INFORMATION CONTACT: Brian T. Kelly, Field Supervisor, Wyoming Field Office, U.S. Fish and Wildlife Service, at the above address (telephone 307-772-2374; facsimile 307-772-2358; e-mail Brian_T_Kelly@fws.gov).

SUPPLEMENTARY INFORMATION:

Background

Yermo xanthocephalus, a perennial herb in the sunflower family, is known from only one population, which occurs in central Wyoming on Federal land managed by the Bureau of Land Management (BLM). The one population numbered approximately 12,000 plants in 2001. Y. xanthocephalus has leafy stems up to 12 inches high with alternate, lance-shaped leathery leaves and 25 to 80 flower heads on each stem. Each flower head contains four to six yellow disk flowers surrounded by five small, yellow leaves. Y. xanthocephalus occupies shallow deflation hollows shaped by wind and erosion in outcrops of sandstone. Human activities, including potential oil and gas development, potential mining of uranium and zeolites, and recreational off-road vehicle use, resulted in Y. xanthocephalus being listed as a threatened species throughout its range on March 14, 2002 (67 FR 11442).

On March 14, 2003 (68 FR 12326), we proposed to designate critical habitat for Yermo xanthocephalus pursuant to the Endangered Species Act (Act) of 1973, as amended (16 U.S.C. 1531 et seq.). The proposal includes approximately 146 hectares (360 acres) of federally-managed lands in the Beaver Rim area in Fremont County, Wyoming. This area contains the only known population of the desert yellowhead, as well as the physical or biological features essential for the conservation of the species.

Critical habitat identifies specific areas, both occupied and unoccupied, that are essential to the conservation of a listed species and that may require special management considerations or protection. If the proposed rule is made final, section 7 of the Act will prohibit destruction or adverse modification of critical habitat by any activity funded, authorized, or carried out by any Federal agency. Federal agencies proposing actions affecting areas designated as critical habitat must consult with us on the effects of their proposed actions, pursuant to section 7(a)(2) of the Act.

Section 4 of the Act requires that we consider economic and other relevant impacts prior to making a final decision on what areas to designate as critical habitat. We have prepared a draft economic analysis and draft environmental assessment for the proposal to designate certain areas as critical habitat for Y. xanthocephalus. The draft economic analysis indicates that, over a 10-year time period, the total section 7-related direct costs associated with the Y. xanthocephalus listing and critical habitat are estimated to be $500,000 to $600,000. We solicit data and comments from the public on these draft documents, as well as on all aspects of the proposal. We may revise the proposal, or its supporting documents, to incorporate or address new information received during the comment period. In particular, we may exclude an area from critical habitat if we determine that the benefits of excluding the area outweigh the benefits of including the area as critical habitat, provided such exclusion will not result in the extinction of the species.

Public Comments Solicited

We intend any final action resulting from this proposal to be as accurate and as effective as possible. Therefore, we solicit comments or suggestions from the public, other concerned governmental agencies, the scientific community, industry, or any other interested party concerning this proposed rule. We do not anticipate extending or reopening the comment period on the proposed rule after this comment period ends (see DATES). We particularly seek comments concerning:

(1) The reasons why any habitat should or should not be determined to be critical habitat as provided by section 4 of the Act, including whether the benefits of designation will outweigh any threats to the species due to designation;

(2) Specific information on the amount and distribution of Y. xanthocephalus habitat, and what habitat is essential to the conservation of the species and why;

(3) Land use practices and current or planned activities in the subject area and their possible impacts on proposed critical habitat;

(4) Any foreseeable economic or other impacts resulting from the proposed designation of critical habitat, in particular, any impacts on small entities or families; and

(5) Whether our approach to critical habitat designation could be improved or modified in any way to provide for greater public participation and understanding, or to assist us in accommodating public concern and comments.

We will also accept comments on the proposed critical habitat designation. If you wish to comment, you may submit your comments and materials concerning this proposal by any one of several methods (see ADDRESSES). If you would like to submit comments by electronic format, please submit them in ASCII file format and avoid the use of special characters and encryption. Please include your name and return e-mail address in your e-mail message.

Comments previously submitted need not be resubmitted as they have already been incorporated into the public record and will be fully considered in the final rule. Comments submitted during this comment period also will be incorporated into the public record and will be fully considered in the final rule. In order to comply with the terms of a settlement agreement, we are required to complete the final designation of critical habitat for Yermo xanthocephalus by March 8, 2004 (Civil Action Number 01-B-2204). To meet this date, all comments or proposed revisions to the proposed rule, associated draft economic analysis, and draft environmental assessment need to be submitted to us during the comment period reopened by this document (see DATES).

Our practice is to make comments, including names and home addresses of respondents, available for public review during regular business hours. Individual respondents may request that we withhold their home address, which we will honor to the extent allowable by law. If you wish us to withhold your name or address, you must state this request prominently at the beginning of your comments. However, we will not consider anonymous comments. To the extent consistent with applicable law, we will make all submissions from organizations or businesses, and from individuals identifying themselves as representatives or officials of organizations or businesses, available for public inspection in their entirety.

Comments and materials received, as well as supporting documentation used in preparation of the proposal to designate critical habitat, will be available for public inspection, by appointment, during normal business hours at the Wyoming Field Office (see ADDRESSES).

Author

The primary author of this notice is the Wyoming Field Office staff (see ADDRESSES).

Authority: The authority for this action is the Endangered Species Act of 1973, as amended (16 U.S.C. 1531 et seq.).

Dated: January 16, 2004.
Craig Manson,
Assistant Secretary for Fish and Wildlife and Parks.

[FR Doc. 04-1626 Filed 1-26-04; 8:45 am]

BILLING CODE 4310-55-P